DEPARTMENT OF HOMELAND SECURITY

Coast Guard

[Docket No. USCG-2013-0574]

Merchant Marine Personnel Advisory Committee: Intercessional Meeting

AGENCY: Coast Guard, DHS.

ACTION: Notice of Federal Advisory Committee Working Group Meeting.

SUMMARY: A working group of the Merchant Marine Personnel Advisory Committee (MERPAC) will meet to work on Task Statement 82, entitled “The review and submittal of recommendations for proposed revisions to forms CG-719K, Merchant Mariner Credential Medical Evaluation Report and CG-719K/E, Merchant Mariner Evaluation of Fitness for Entry Level Ratings.” This meeting will be open to the public.

DATES: A MERPAC working group will meet on July 24, 2013, and July 25, 2013, from 8 a.m. until 4 p.m. Please note that the meeting may adjourn early if all business is finished. Written comments to be distributed to working group members and placed on MERPAC's Web site are due by July 10, 2013.

ADDRESSES: The working group will meet at the Jemal Building of U.S. Coast Guard Headquarters, Room 10-0718, 1900 Half St. SW., Washington, DC 20593. Attendees will be required to provide a picture identification card and pass through a magnetometer in order to gain admittance to the Jemal Building. Visitors should also arrive at least 30 minutes in advance of the meeting in case of long lines at the entrance.

For further information about the Coast Guard facilities or services for individuals with disabilities or to request special assistance, contact Mr. Davis Breyer at (202) 372-1445 or davis.j.breyer@uscg.mil.

To facilitate public participation, we are inviting public comment on the issues to be considered by the working group, as listed in the “Agenda” section below. Comments must be submitted in writing on or before July 10, 2013, and must be identified by Docket No. USCG-2013-0574 and may be submitted by one of the following methods:

• Federal eRulemaking Portal: http://www.regulations.gov. Follow the instructions for submitting comments (preferred method to avoid delays in processing).

• Fax: 202-493-2251.

• Mail: Docket Management Facility (M-30), U.S. Department of Transportation, West Building Ground Floor, Room W12-140, 1200 New Jersey Avenue SE., Washington, DC 20590-0001.

• Hand delivery: Same as mail address above, between 9 a.m. and 5 p.m., Monday through Friday, except Federal Holidays. The telephone number is 202-366-9329.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www.regulations.gov, enter the docket number in the “Search” field and follow instructions on the Web site.

Public oral comment periods will be held during the working group meeting. Speakers are requested to limit their comments to 3 minutes. Please note that the public oral comment periods may end before the prescribed ending time following the last call for comments. Contact Davis Breyer as indicated above no later than July 10, 2013 to register as a speaker.

FOR FURTHER INFORMATION CONTACT: Mr. Davis Breyer, Alternate Designated Federal Officer of MERPAC, telephone 202-372-1445. If you have any questions on viewing or submitting material to the docket, call Barbara Hairston, Program Manager, Docket Operations, telephone 202-366-9826.

SUPPLEMENTARY INFORMATION: Notice of this meeting is given under the Federal Advisory Committee Act (FACA), Title 5, United States Code (Pub. L. 92-463).

MERPAC is an advisory committee authorized under section 871 of the Homeland Security Act of 2002, Title 6, United States Code, section 451, and chartered under the provisions of the FACA. The Committee acts solely in an advisory capacity to the Secretary of the Department of Homeland Security (DHS) through the Commandant of the Coast Guard and the Director of Commercial Regulations and Standards on matters relating to personnel in the U.S. merchant marine, including but not limited to training, qualifications, certification, documentation, and fitness standards. The Committee will advise, consult with, and make recommendations reflecting its independent judgment to the Secretary.

A copy of all meeting documentation, including the Task Statement, is available at https://homeport.uscg.mil by using these key strokes: Missions; Port and Waterways Safety; Advisory Committees; MERPAC; and then use the announcements key. Alternatively, you may contact Mr. Breyer as noted in the ADDRESSES section above.

Agenda

Day 1

The agenda for the July 24, 2013, working group meeting is as follows:

(1) Review forms CG-719K, Merchant Mariner Credential Medical Evaluation Report and CG-719K/E, Merchant Mariner Evaluation of Fitness for Entry Level Ratings for possible revision;

(2) Public comment period;

(3) Discuss and prepare proposed recommendations for the full committee to consider with regards to Task Statement 82, entitled “The review and submittal of recommendations for proposed revisions to forms CG-719K, Merchant Mariner Credential Medical Evaluation Report and CG-719K/E, Merchant Mariner Evaluation of Fitness for Entry Level Ratings”; and

(4) Adjournment of meeting.

Day 2

The agenda for the July 25, 2013, working group meeting is as follows:

(1) Continue discussion on proposed recommendations;

(2) Public comment period;

(3) Discuss and prepare final recommendations for the full committee to consider with regards to Task Statement 82, entitled “The review and submittal of recommendations for proposed revisions to forms CG-719K, Merchant Mariner Credential Medical Evaluation Report and CG-719K/E, Merchant Mariner Evaluation of Fitness for Entry Level Ratings”; and

(4) Adjournment of meeting.

Dated: June 25, 2013.
J. G. Lantz,
Director of Commercial Regulations and Standards.

[FR Doc. 2013-16253 Filed 7-5-13; 8:45 am]

BILLING CODE 9110-04-P